DEPARTMENT OF LABOR

Employment and Training Administration

[TA-W-52,505]

Flextronics Logistics, Mt. Juliet, TN; Notice of Termination of Investigation

Pursuant to Section 221 of the Trade Act of 1974, as amended, an investigation was initiated on August 11, 2003 in response to a worker petition filed on behalf of workers at Flextronics Logistics, Mt. Juliet, Tennessee.

The petitioner has requested that the petition be withdrawn. Consequently, the investigation has been terminated.

Signed at Washington, DC, this 15th day of August, 2003.
Elliott S. Kushner,
Certifying Officer, Division of Trade Adjustment Assistance.

[FR Doc. 03-22282 Filed 8-29-03; 8:45 am]

BILLING CODE 4510-30-P